DEPARTMENT OF AGRICULTURE

Animal and Plant Health Inspection Service

[Docket No. APHIS-2025-0026]

Revision to and Extension of Approval of an Information Collection; Approval of Laboratories for Conducting Aquatic Animal Tests for Export Health Certificates

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with its efforts to certify certain laboratories that conduct aquatic animal testing for export activities.

DATES: We will consider all comments that we receive on or before November 3, 2025.

ADDRESSES: You may submit comments by either of the following methods:

• Federal eRulemaking Portal: Federal eRulemaking Portal: Go to www.regulations.gov. Enter APHIS-2025-0026 in the Search field. Select the Documents tab, then select the Comment button in the list of documents.

• Postal Mail/Commercial Delivery: Send your comment to Docket No. APHIS-2025-0026, Regulatory Analysis and Development, PPD, APHIS, 5601 Sunnyside Ave., #AP760, Beltsville, MD 20705.

Supporting documents and any comments we receive on this docket may be viewed at http://www.regulations.gov or in our reading room, which is located in room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on conducting aquatic animal tests for export health certificates, contact Janet Warg, Microbiologist, Diagnostic Virology Laboratory, National Veterinary Services Laboratories, 1920 Dayton Avenue, P.O. Box 844, Ames, IA 50010; (515) 337-7879. For more information on the information collection process, contact Ms. Sheniqua Harris, APHIS' Information Collection Coordinator, at 301-851-2528 or email: APHIS.PRA@usda.gov.

SUPPLEMENTARY INFORMATION:

Title: Approval of Laboratories for Conducting Aquatic Animal Tests for Export Health Certificates.

OMB Control Number: 0579-0429.

Type of Request: Revision to and extension of approval of an information collection.

Abstract: The Animal Health Protection Act (AHPA, 7 U.S.C. 8301 et seq.) is the primary Federal law governing the protection of animal health. The AHPA gives the Secretary of Agriculture broad authority to detect, control, or eradicate pests or diseases of livestock or poultry. The Secretary may also prohibit or restrict import or export of any animal or related material if necessary to prevent the spread of any livestock or poultry pest or disease.

Disease prevention is the most effective method for maintaining a healthy animal population and enhancing the ability of U.S. producers to compete in the global market of animal and animal product trade. To facilitate the export of U.S. animals and animal products, the Animal and Plant Health Inspection Service (APHIS) of the U.S. Department of Agriculture maintains information regarding the import health requirements of other countries for animals and animal products, including aquaculture animals, exported from the United States.

While APHIS does not currently require the approval or certification of laboratories that conduct disease tests for the export of aquaculture animals, some countries that import these animals from the United States require them to be tested for certain diseases and the test results recorded on the export certificates. In addition, the test results must originate from a laboratory approved by the competent authority of the exporting country, which is APHIS in this case. State, university, and private laboratories can voluntarily seek APHIS approval of individual diagnostic methods. Though APHIS does not have regulations for the approval or certification of laboratories that conduct tests for the export of aquaculture animals, APHIS provides this approval as a service to U.S. exporters who export aquaculture animals to countries that require this certification.

APHIS evaluates diagnostic methods for detecting aquatic animal pathogens listed by the World Organization for Animal Health (WOAH) in the WOAH diagnostic manual and other supporting scientific literature. APHIS lists the laboratories approved to conduct diagnostic testing in support of export health certification of aquatic species at https://www.aphis.usda.gov/sites/default/files/approved-labs-aquaculture.pdf. Once approved, the laboratories are inspected by APHIS every 2 years to maintain their approval.

The approval of laboratories to conduct tests for the export of aquaculture animals requires the use of certain information collection activities including notification of intent to request approval, application for APHIS approval, protocol statement, submission and recordkeeping of sample copies of diagnostic reports, quality assurance/control plans and their recordkeeping, notification of proposed changes to assay protocols, recordkeeping of supporting assay documentation, and request for removal of approved status.

We are asking OMB to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 4.3 hours per response.

Respondents: State, university, and private laboratory personnel.

Estimated annual number of respondents: 9.

Estimated annual number of responses per respondent: 47.

Estimated annual number of responses: 419.

Estimated total annual burden on respondents: 1,806 hours. (Due to averaging, the total annual burden hours may not equal the product of the annual number of responses multiplied by the reporting burden per response.)

All responses to this notice will be summarized and included in the request for OMB approval. All comments will also become a matter of public record.

Done in Washington, DC, this 25th day of August 2025.
Michael Watson,
Administrator, Animal and Plant Health Inspection Service.

[FR Doc. 2025-16897 Filed 9-2-25; 8:45 am]

BILLING CODE 3410-34-P